DEPARTMENT OF COMMERCE

International Trade Administration

[A-475-818]

Certain Pasta From Italy: Final Results of Antidumping Duty Changed Circumstances Review

AGENCY: Enforcement and Compliance, International Trade Administration, Department of Commerce.

SUMMARY: On July 31, 2024, the U.S. Department of Commerce (Commerce) published the preliminary results of the changed circumstances review (CCR) of the antidumping duty (AD) order on certain pasta (pasta) from Italy. For these final results, Commerce continues to find that Gruppo Milo SpA (Gruppo Milo) is the successor-in-interest to Gruppo Alimentare Mediterraneo Milo Srl (GRAMM) and should be assigned the same AD cash deposit rate as GRAMM for purposes of the AD order on pasta from Italy.

DATES: Applicable September 16, 2024.

FOR FURTHER INFORMATION CONTACT: Peter Zukowski, AD/CVD Operations, Office III, Enforcement and Compliance, International Trade Administration, U.S. Department of Commerce, 1401 Constitution Avenue NW, Washington, DC 20230; telephone: (202) 482-0189.

SUPPLEMENTARY INFORMATION:

Background

On July 31, 2024, Commerce published the Preliminary Results,¹ determining that Gruppo Milo is the successor-in-interest to GRAMM for purposes of determining AD cash deposits and liabilities, and provided all interested parties with an opportunity to comment.²

¹ See Certain Pasta from Italy: Notice of Initiation and Preliminary Results of Antidumping Duty Changed Circumstances Review, 89 FR 61398 (July 31, 2024) (Preliminary Results).

² Id., 89 FR at 61400.

Scope of the Order 3

³ See Notice of Antidumping Duty Order and Amended Final Determination of Sales at Less Than Fair Value: Certain Pasta from Italy, 61 FR 38547 (July 24, 1996) (Order).

The merchandise subject to this Order is certain pasta from Italy. The product is currently classified under subheadings 1901.90.9095 and 1902.19.20 of the Harmonized Tariff Schedule of the United States (HTSUS). Although the HTSUS subheadings are provided for convenience and Customs purposes, the written description of the merchandise subject to the Order is dispositive. For a complete description of the scope of the Order, see the Preliminary Results.⁴

⁴ See Preliminary Results, 89 FR at 61398-9.

Final Results of CCR

Because we received no comments from any interested party, these final results remain unchanged from the Preliminary Results and no decision memorandum accompanies this notice. Specifically, Commerce continues to find that Grupo Milo is the successor-in-interest to GRAMM and that, consistent with our established practice, Grupo Milo should receive the AD cash deposit rate previously assigned to GRAMM.

Commerce will instruct U.S. Customs and Border Protection to suspend liquidation of all shipments of subject merchandise produced or exported by Gruppo Milo and entered, or withdrawn from the warehouse, for consumption on or after the publication date of this notice in the Federal Register at 5.30 percent, which is the current AD cash deposit rate for GRAMM.⁵ This cash deposit requirement shall remain in effect until further notice.

⁵ See Certain Pasta from Italy: Final Results of Antidumping Duty Administrative Review; 2015-2016, 82 FR 57428 (December 5, 2017).

Administrative Protective Order

This notice serves as the only reminder to parties subject to an administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

We are issuing this determination and publishing these final results and notice in accordance with sections 751(b)(1) and 777(i)(1) and (2) of the Tariff Act of 1930, as amended, and 19 CFR 351.216(e), 351.221(b), and 351.221(c)(3).

Dated: September 10, 2024.
Ryan Majerus,
Deputy Assistant Secretary for Policy and Negotiations, performing the non-exclusive functions and duties of the Assistant Secretary for Enforcement and Compliance.

[FR Doc. 2024-20990 Filed 9-13-24; 8:45 am]

BILLING CODE 3510-DS-P